DEPARTMENT OF HEALTH AND HUMAN SERVICES

National Institutes of Health

Clinical Center; Amended Notice of Meeting

Notice is hereby given of a change in the meeting of the Board of Scientific Counselors of the NIH Clinical Center, March 16, 2026, 10:00 a.m. to March 17, 2026, 12:30 p.m., National Institutes of Health, Clinical Center, 10 Center Drive, Bethesda, MD 20892 which was published in the Federal Register on January 12, 2026, 91 FR 1192.

This notice is being amended due to a change in Designated Federal Officer (DFO). Ms. Julie Goldberg will be the new DFO and point of contact for this meeting. The agenda will remain the same. This meeting is closed to the public.

Dated: February 24, 2026.
David W. Freeman,
Supervisory Program Analyst, Office of Federal Advisory Committee Policy.

[FR Doc. 2026-03908 Filed 2-26-26; 8:45 am]

BILLING CODE 4140-01-P